Proclamation 7934 of September 16, 2005

Family Day, 2005

By the President of the United States of America

A Proclamation

Families are a source of hope, stability, and love. On Family Day, we celebrate the special bonds that link children and parents, and we recognize the importance of parental involvement in the lives of their children. By providing guidance, support, and unconditional love, families help shape the character and future of our Nation.

In a free and compassionate society, the public good depends upon the private character of our citizens. That character is formed and shaped from a child's earliest days through the love and guidance of family. Families help children understand the difference between right and wrong and the importance of making good choices. Regular family activities allow parents to be actively involved in the lives of their children and instill important values of honesty, compassion, and respect for others. By raising young people in a loving and secure environment, parents help them develop into successful adults and responsible citizens.

Parents and family are a bedrock of love and support, and my Administration is committed to strengthening families. My 2006 budget proposes $240 million for initiatives that promote responsible fatherhood and encourage healthy marriages. Through competitive grants to State-based programs and faith-based and community organizations, we are helping support their good work. As parents continue to raise healthy children, we can all help young people realize a bright and promising future.

Strong families are the cornerstone of a strong America, and the well-being of families is a shared priority for all Americans. As we support families, we help build a Nation of opportunity and hope.

NOW, THEREFORE, I, GEORGE W. BUSH, President of the United States of America, by virtue of the authority vested in me by the Constitution and laws of the United States, do hereby proclaim September 26, 2005, as Family Day. I call on the people of the United States to observe this day by spending time with family members and reaffirming the important relationship between parents and children and the vital role that families play in our society.

IN WITNESS WHEREOF, I have hereunto set my hand this sixteenth day of September, in the year of our Lord two thousand five, and of the Independence of the United States of America the two hundred and thirtieth.

B

[FR Doc. 05-18978

Filed 9-20-05; 8:45 am]

Billing code 3195-01-P